DEPARTMENT OF COMMERCE

National Oceanic and Atmospheric Administration

RIN 0648-XV044

Mid-Atlantic Fishery Management Council (MAFMC); Public Meeting

AGENCY: National Marine Fisheries Service (NMFS), National Oceanic and Atmospheric Administration (NOAA), Commerce.

ACTION: Notice; public meeting.

SUMMARY: The Mid-Atlantic Fishery Management Council's (Council) Atlantic Mackerel, Squid, and Butterfish (MSB) Committee will hold a meeting.

DATES: The meeting will be held on Thursday, September 12, 2019, beginning at 8:30 a.m. and concluding by 3:30 p.m. For agenda details, see SUPPLEMENTARY INFORMATION.

ADDRESSES: The meeting will be held via webinar with a telephone-only audio connection: http://mafmc.adobe connect.com/illex-com-2019/. Telephone instructions are provided upon connecting, or the public can call direct: (800) 832-0736, Rm: *7833942#.

Council address: Mid-Atlantic Fishery Management Council, 800 N State Street, Suite 201, Dover, DE 19901; telephone: (302) 674-2331 or on their website at www.mafmc.org.

FOR FURTHER INFORMATION CONTACT: Christopher M. Moore, Ph.D., Executive Director, Mid-Atlantic Fishery Management Council, telephone: (302) 526-5255.

SUPPLEMENTARY INFORMATION: The purposes of the meeting are to review and develop options for modifying access to the Illex squid fishery as well as for revisions to the MSB Plan Goals/Objectives.

Special Accommodations

The meeting is physically accessible to people with disabilities. Requests for sign language interpretation or other auxiliary aid should be directed to M. Jan Saunders, (302) 526-5251, at least 5 days prior to any meeting date.

Authority: 16 U.S.C. 1801 et seq.

Dated: August 22, 2019.
Tracey L. Thompson,
Acting Deputy Director, Office of Sustainable Fisheries, National Marine Fisheries Service.

[FR Doc. 2019-18466 Filed 8-26-19; 8:45 am]

BILLING CODE 3510-22-P